DEPARTMENT OF LABOR

Employment and Training Administration

[TA-W-58,268]

Simpson Door Company, McCleary Washington Division, McCleary, WA; Notice of Revised Determination on Reconsideration

By letter postmarked December 16, 2005 United Brotherhood of Carpenters and Joiners of America, Local Union No. 2761 requested administrative reconsideration regarding the Department's Negative Determination Regarding Eligibility to Apply for Worker Adjustment Assistance, applicable to the workers of the subject firm.

The initial investigation resulted in a negative determination signed on November 23, 2005 was based on the finding that the subject company did not separate or threaten to separate a significant number or proportion of workers during the relevant time period, as required by section 222 of the Trade Act of 1974. The denial notice was published in the Federal Register on December 15, 2005 (70 FR 74368).

To support the request for reconsideration, the petitioner supplied additional information regarding employment at the subject facility. Upon further contact with the subject firm's company official, it was revealed that the subject firm separated a significant number of workers during the relevant time period. The investigation also revealed that the subject firm decreased production of wood stile and rail doors while increasing imports of wood stile and rail doors during the relevant time period.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Simpson Door Company, McCleary Washington Division, McCleary, Washington, contributed importantly to the declines in sales or production and to the total or partial separation of workers at the subject firm. In accordance with the provisions of the Act, I make the following certification:

All workers of Simpson Door Company, McCleary Washington Division, McCleary, Washington who became totally or partially separated from employment on or after November 3, 2004 through two years from the date of this certification, are eligible to apply for adjustment assistance under section 223 of the Trade Act of 1974, and are eligible to apply for alternative trade adjustment assistance under section 246 of the Trade Act of 1974.

Signed in Washington, DC this 20th day of January 2006.
Elliott S. Kushner,
Certifying Officer, Division of Trade Adjustment Assistance.

[FR Doc. E6-1192 Filed 1-30-06; 8:45 am]

BILLING CODE 4510-30-P